DEPARTMENT OF THE INTERIOR

National Park Service

[NPS-WASO-NAGPRA-NPS0037675; PPWOCRADN0-PCU00RP14.R50000]

Notice of Inventory Completion: University of California, Davis, Davis, CA

AGENCY: National Park Service, Interior.

ACTION: Notice.

SUMMARY: In accordance with the Native American Graves Protection and Repatriation Act (NAGPRA), the University of California, Davis (UC Davis) has completed an inventory of human remains and associated funerary objects and has determined that there is a cultural affiliation between the human remains and associated funerary objects and Indian Tribes or Native Hawaiian organizations in this notice.

DATES: Repatriation of the human remains and associated funerary objects in this notice may occur on or after May 8, 2024.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis and additional information on the determinations in this notice, including the results of consultation, can be found in the inventory or related records. The National Park Service is not responsible for the determinations in this notice.

Abstract of Information Available

Based on the information available, human remains representing, at least, 16 individuals have been reasonably identified. The 2,388 lots associated funerary objects are 32 projectile points, 237 lots of soil samples, 73 lots of charcoal and ash, 230 lots of fired clay, 83 lots of historic items, 148 lots of modified shell, 105 lots of chipped stone (bifaces, cores, flake tools), 442 lots of unmodified animal bone, three lots of minerals (ochre and quartz), 260 lots of lithic debitage, 100 lots of fire cracked rock, six lots of ground stone, eight lots of miscellaneous stone, 452 lots of modified animal bone, nine lots of worked stone (pendants and pipes), 30 lots of seeds, and 170 lots of unmodified shell. The 181 currently missing associated funerary objects are five projectile points, two lots of charcoal and ash, 12 lots of fired clay, 21 lots of historic items, eight lots of modified shell, one lot of chipped stone, 53 lots of unmodified animal bone, 20 lots of lithic debitage, one lot of fire cracked rock, 11 lots of modified animal bone, one lot of worked stone, two lots of seeds, and 44 lots of unmodified shell. In February 2022, eight associated funerary objects from this collection were stolen from the UC Davis Anthropology Museum. The stolen items are one biface and seven projectile points. A 1968 UC Davis field school conducted an excavation at this site, CA-SAC-43 (UC Davis Accession 35), under the direction of Patricia Johnson and Jack Nance.

Cultural Affiliation

Based on the information available and the results of consultation, cultural affiliation is clearly identified by the information available about the human remains and associated funerary objects described in this notice.

Determinations

The UC Davis has determined that:

• The human remains described in this notice represent the physical remains of 16 individuals of Native American ancestry.

• The 2,388 objects described in this notice are reasonably believed to have been placed intentionally with or near individual human remains at the time of death or later as part of the death rite or ceremony.

• There is a reasonable connection between the human remains and associated funerary objects described in this notice and the Buena Vista Rancheria of Me-Wuk Indians California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 8, 2024. If competing requests for repatriation are received, the UC Davis must determine the most appropriate requestor prior to repatriation. Requests for joint repatriation of the human remains and associated funerary objects are considered a single request and not competing requests. The UC Davis is responsible for sending a copy of this notice to the Indian Tribes and Native Hawaiian organizations identified in this notice.

Authority: Native American Graves Protection and Repatriation Act, 25 U.S.C. 3003, and the implementing regulations, 43 CFR 10.10.

Dated: March 22, 2024.
Melanie O'Brien,
Manager, National NAGPRA Program.

[FR Doc. 2024-07361 Filed 4-5-24; 8:45 am]

BILLING CODE 4312-52-P